NATIONAL FOUNDATION ON THE ARTS AND THE HUMANITIES

Arts Advisory Panel Meeting

AGENCY: National Endowment for the Arts, National Foundation on the Arts and Humanities.

ACTION: Notice of Meetings

SUMMARY: Pursuant to Section 10(a)(2) of the Federal Advisory Committee Act (Pub. L. 92-463), as amended, notice is hereby given that sixteen meetings of the Arts Advisory Panel to the National Council on the Arts will be held at the Nancy Hanks Center, 1100 Pennsylvania Avenue NW., Washington, DC 20506 as follows (ending times are approximate):

Local Arts Agencies (application review): By teleconference. This meeting will be closed.

Dates: June 5, 2013; 1:00 p.m. to 3:00 p.m. EDT.

Dance (application review): By teleconference. This meeting will be closed.

Dates: June 6, 2013; 2:00 p.m. to 4:00 p.m. EDT.

Presenting and Multidisciplinary Works (application review): In Room 627. This meeting will be closed.

Dates: June 6-7, 2013; 9:00 a.m. to 5:30 p.m. EDT on June 6th and 9:00 a.m. to 2:00 p.m. EDT on June 7th.

Dance (application review): By teleconference. This meeting will be closed.

Dates: June 7, 2013; 2:00 p.m. to 4:00 p.m. EDT.

Dance (application review): By teleconference. This meeting will be closed.

Dates: June 10, 2013; 2:00 p.m. to 4:00 p.m. EDT.

Media Arts (application review): By teleconference. This meeting will be closed.

Dates: June 12, 2013; 2:00 p.m. to 4:00 p.m. EDT.

Music (application review): Room 714. This meeting will be closed.

Dates: June 12, 2013; 10:00 a.m. to 4:00 p.m. EDT.

Media Arts (application review): By teleconference. This meeting will be closed.

Dates: June 13, 2013; 2:00 p.m. to 4:00 p.m. EDT.

Folk and Traditional Arts (application review): Room 714. This meeting will be closed.

Dates: June 13, 2013; 9:00 a.m. to 5:00 p.m. EDT.

Folk and Traditional Arts (application review): Room 714. This meeting will be closed.

Dates: June 14, 2013; 9:00 a.m. to 5:00 p.m. EDT.

Music (application review): Room 714. This meeting will be closed.

Dates: June 17, 2013; 10:00 a.m. to 4:00 p.m. EDT.

Theater and Musical Theater (application review): In Room 716. This meeting will be closed.

Dates: June 19-20, 2013; 9:00 a.m. to 5:30 p.m. EDT on June 19th and 9:00 a.m. to 1:00 p.m. EDT on June 20th.

Presenting and Multidisciplinary Works (application review): By teleconference. This meeting will be closed.

Dates: June 21, 2013; 2:00 p.m. to 4:00 p.m. EDT.

Arts Education (application review): Room 627. This meeting will be closed.

Dates: June 25, 2013; 9:00 a.m. to 5:00 p.m. EDT.

Opera (application review): Room 714. This meeting will be closed.

Dates: June 25, 2013; 10:00 a.m. to 4:00 p.m. EDT.

Artist Communities (application review): By teleconference. This meeting will be closed.

Dates: June 26, 2013; 2:00 p.m. to 4:00 p.m. EDT.

FOR FURTHER INFORMATION CONTACT: Further information with reference to these meetings can be obtained from Ms. Kathy Plowitz-Worden, Office of Guidelines & Panel Operations, National Endowment for the Arts, Washington, DC 20506; plowitzk@arts.gov or call 202/682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of Title 5, United States Code.

Dated: May 9, 2013.
Kathy Plowitz-Worden,
Panel Coordinator, National Endowment for the Arts.

[FR Doc. 2013-11362 Filed 5-13-13; 8:45 am]

BILLING CODE 7537-01-P